ENVIRONMENTAL PROTECTION AGENCY

[EPA-HQ-OPP-2015-0769; FRL-10013-91]

Difenacoum; Product Cancellation Order for Certain Pesticide Registrations

AGENCY: Environmental Protection Agency (EPA).

ACTION: Notice.

SUMMARY: This notice announces EPA's order for the cancellations to terminate uses, voluntarily requested by the registrant and accepted by the Agency, of the products listed in Table 1 and Table 2 of Unit II, pursuant to the Federal Insecticide, Fungicide, and Rodenticide Act (FIFRA). This cancellation order follows a June 14, 2018 Federal Register Notice of Receipt of Requests from the registrant listed in Table 3 of Unit II to voluntarily cancel these product registrations. In the June 14, 2018 notice, EPA indicated that it would issue an order implementing the cancellations and amendments to terminate uses, unless the Agency received substantive comments within the 30-day comment period that would merit its further review of these requests, or unless the registrant withdrew their requests. The Agency received no comments on the notice. Further, the registrant did not withdraw their requests. Accordingly, EPA hereby issues in this notice a cancellation order granting the requested cancellations. Any distribution, sale, or use of the products subject to this cancellation order is permitted only in accordance with the terms of this order, including any existing stocks provisions.

DATES: The cancellations are effective August 26, 2020.

FOR FURTHER INFORMATION CONTACT: Steven Snyderman, Pesticide Re-evaluation Division (7502P), Office of Pesticide Programs, Environmental Protection Agency, 1200 Pennsylvania Ave. NW, Washington, DC 20460-0001; telephone number: (703) 347-0249; email address: snyderman.steven@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0769, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This notice announces the cancellations, as requested by registrant, of products registered under FIFRA section 3 (7 U.S.C. 136a). These registrations are listed in sequence by registration number in Table 1 of this unit.

Table 1—Difenacoum Product Cancellations
Registration No. | Product name | Company
36488-63 | Difenacoum Rat and Mouse Block IV | Woodstream Corporation.
36488-64 | Difenacoum Rat and Mouse Place Packs IV | Woodstream Corporation.
36488-65 | Difenacoum Rat and Mouse Pellets IV | Woodstream Corporation.
36488-66 | Technical Difenacoum | Woodstream Corporation.
47629-12 | Difenacoum Technical | Woodstream Corporation.
47629-14 | Difenacoum Rat and Mouse Pellets | Woodstream Corporation.
47629-16 | Difenacoum Rat and Mouse Blocks | Woodstream Corporation.
47629-17 | Difenacoum Rat and Mouse Place Packs | Woodstream Corporation.

Table 2 of this unit includes the names and addresses of record for all the registrants of the products listed in Table 1 of this unit, in sequence by EPA company number. This number corresponds to the first part of the EPA registration numbers of the products listed in Table 1 of this unit.

Table 2—Registrants of Cancelled Products.
EPA Company No. | Company name and address
36488 | Woodstream Corporation, 69 N Locust St., P.O. Box 327, Lititz, PA 17543.
47629 | Woodstream Corporation, 69 N Locust St., P.O. Box 327, Lititz, PA 17543.

III. Summary of Public Comments Received and Agency Response to Comments

During the public comment period provided, EPA received no comments in response to the June 14, 2018 Federal Register notice announcing the Agency's receipt of the requests for voluntary cancellation of products listed in Table 1 of Unit II.

IV. Cancellation Order

Pursuant to FIFRA section 6(f) (7 U.S.C. 136d(f)(1)), EPA hereby approves the requested cancellations of the registrations identified in Table 1 of Unit II. Accordingly, the Agency hereby orders that the product registrations identified in Table 1 of Unit II are cancelled. The effective date of the cancellations and amendments listed in Table 1 that are subject of this notice is August 26, 2020. Any distribution, sale, or use of existing stocks of the products identified in Table 1 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register of June 14, 2018 (83 FR 115) (FRL-9978-37). The comment period closed on July 16, 2018.

VI. Provisions for Disposition of Existing Stocks

Existing stocks are those stocks of registered pesticide products which are currently in the United States and which were packaged, labeled, and released for shipment prior to the effective date of the action. The existing stocks provision for the products subject to this order is as follows.

For voluntary product cancellations, identified in Table 1 of Unit II, in conjunction with the publication of the cancellation order in the Federal Register, the registrant is no longer permitted to sell and distribute existing stocks, except for export consistent with FIFRA section 17 (7 U.S.C. 1360) or for proper disposal.

Persons other than the registrant may sell, distribute, or use existing stocks of cancelled products until supplies are exhausted, provided that such sale, distribution, or use is consistent with the terms of the previously approved labeling on, or that accompanied, the cancelled products.

Authority: 7 U.S.C. 136 et seq.

Dated: August 14, 2020.
Mary Reaves,
Acting Director, Pesticide Re-Evaluation Division, Office of Pesticide Programs.

[FR Doc. 2020-18708 Filed 8-25-20; 8:45 am]

BILLING CODE 6560-50-P